DEPARTMENT OF AGRICULTURE

Foreign Agricultural Service

Trade Adjustment Assistance for Farmers

AGENCY: Foreign Agricultural Service, USDA.

ACTION: Notice.

The Administrator, Foreign Agricultural Service (FAS), today accepted a petition, and began a review of a petition, for trade adjustment assistance by the Florida Keys Commercial Fishermen's Association on behalf of Florida fishermen who catch and market rock “spiny” lobsters. The Administrator will determine within 40 days whether or not increasing imports of rock “spiny” lobster contributed importantly to a greater than 15 percent decrease in the national average price of rock “spiny” lobsters compared to the average of the 3 preceding marketing years. If a determination is affirmative, fishermen who catch and market rock “spiny” lobsters in Florida will be eligible to apply to the Farm Service Agency for technical assistance at no cost and cash benefits.

FOR FURTHER INFORMATION CONTACT: Trade Adjustment Assistance Staff, FAS, USDA, at (202) 720-0638, or by email at: tradeadjustment@fas.usda.gov. Additional program information can be obtained at the Web site for the Trade Adjustment Assistance for Farmers program. The URL is http://www.fas.usda.gov/itp/taa.

Dated: April 27, 2010.
John D. Brewer,
Administrator, Foreign Agricultural Service.

[FR Doc. 2010-10256 Filed 4-30-10; 8:45 am]

BILLING CODE 3410-10-P